DEPARTMENT OF COMMERCE

Patent and Trademark Office

Generic Clearance for the Collection of Qualitative Feedback on Agency Service Delivery

ACTION: Proposed collection; comment request.

SUMMARY: The United States Patent and Trademark Office (USPTO), as required by the Paperwork Reduction Act of 1995, invites comments on a proposed extension of an existing information collection; 0651-0080: Qualitative Feedback on Agency Service Delivery.

DATES: Written comments must be submitted on or before July 20, 2018.

ADDRESSES: You may submit comments by any of the following methods:

• Email: InformationCollection@uspto.gov. Include “0651-0080: Generic Clearance comment” in the subject line of the message.

• Federal Rulemaking Portal: http://www.regulations.gov.

• Mail: Marcie Lovett, Director, Records and Information Governance Division, Office of the Chief Technology Officer, United States Patent and Trademark Office, P.O. Box 1450, Alexandria, VA 22313-1450.

FOR FURTHER INFORMATION CONTACT: Requests for additional information should be directed to Marcie Lovett, Director, Records and Information Governance Division, Office of the Chief Technology Officer, United States Patent and Trademark Office, P.O. Box 1450, Alexandria, VA 22313-1450; by telephone at 571-272-8123; or by email to informationcollection@uspto.gov with “Paperwork” in the subject line.

Additional information about this collection can be found at http://www.reginfo.gov under “Information Collection Review.”

SUPPLEMENTARY INFORMATION:

I. Abstract

Executive Order 12862 (http://www.archives.gov/federal-register/executive-orders/pdf/12862.pdf) directs Federal agencies to provide services to the public that matches or exceeds the best services available in the private sector. In order to work continuously to ensure that its programs are effective and meet its customers' needs, the United States Patent and Trademark Office (hereafter “USPTO” or “the Agency”) proposes the following generic clearance to collect qualitative feedback on its service delivery. Qualitative feedback refers to information that provides useful insights on perceptions and opinions, but is not in the form of statistical surveys which yield quantitative results that can be generalized to the population of study.

Collecting feedback will allow for the Agency to have a pulse on customer satisfaction and adjust where necessary to meet and exceed expectations. This feedback collection will provide for ongoing, collaborative, and actionable communication between the Agency and its customers and stakeholders. It also will enable the Agency to garner customer and stakeholder feedback in an efficient and timely manner, in accordance with the USPTO's commitment to improving services. The information collected from Agency customers and stakeholders will help ensure users have an opportunity to convey their experience with USPTO programs. This collection will also provide insights into customer or stakeholder perceptions, experiences, and expectations, which will allow the Agency to focus attention on areas where communication, training, or changes in operations may be necessary.

Improving Agency programs requires ongoing assessment. The Agency will collect, analyze, and interpret information gathered to identify strengths and weaknesses of current services. Based on feedback received, the Agency will identify operational changes needed to improve programs and services. The solicitation of feedback will target areas such as: Timeliness, appropriateness, accuracy of information, courtesy, efficiency of service delivery, and resolution of issues with service delivery. The Agency is committed to hearing feedback from its customers. Responses will be assessed to identify service areas in need of improvement. If this information is not collected, then the Agency will miss opportunities to obtain vital feedback from its customers and stakeholders on ways to improve their program and services.

The Agency will only submit a collection for approval under this generic clearance if it meets the following conditions:

• The collection is voluntary;

• The collection is low-burden for respondents (based on considerations of total burden hours, total number of respondents, or burden-hours per respondent) and are low-cost for both the respondents and the Federal Government;

• The collection is noncontroversial and does not raise issues of concern to other Federal agencies;

• Any collection is targeted to the solicitation of opinions from respondents who have experience with the program or may have experience with the program in the near future;

• Personally identifiable information (PII) is collected only to the extent necessary and is not retained;

• Information gathered will only be used internally for general program and service improvement as well as program administrative purposes, and is not intended for release outside the Agency;

• Information gathered will not be used for the purpose of substantially informing influential policy decisions; and

• Information gathered will yield qualitative information; the collections are not designed or expected to yield statistically reliable results nor used as though the results are generalizable to the population of study.

As a general matter, these information collections will not result in any new system of records containing privacy information and will not ask questions of a sensitive nature.

II. Method of Collection

The USPTO uses surveys, focus groups, interviews, questionnaires, and usability testing to collect feedback from its customers. These may be conducted via telephone, through electronic means, or in person. The USPTO expects customers will respond to the questionnaires and surveys primarily through electronic means, and to the focus groups, interviews, and usability testing primarily in person.

III. Data

OMB Number: 0651-0080.

IC Instruments and Forms: The individual instruments in this collection, as well as their associated forms, are listed in the table below.

Type of Review: Regular.

Affected Public: Individuals and households; businesses or other for-profits; and not-for-profit institutions.

Estimated Number of Respondents: 143,000 responses per year.

Estimated Time per Response: Between 3 minutes (0.05 hours) and 120 minutes (2 hours), depending on the instruments used and the item being completed.

Estimated Total Annual Respondent Burden Hours: 18,475 hours.

Estimated Total Annual Respondent (Hourly) Cost Burden: $4,387,986.75. The USPTO expects that attorneys, paralegals and pro se applicants will complete these applications. The professional hourly rate for attorneys is $438, and the hourly rates for paralegals and pro se applicants are $145 and $30, respectively. The average of the combined respondent rate is $204.33. Using this blended hourly rate, the USPTO estimates that the total respondent cost burden for this collection is $4,387,986.75 per year.

IC No. | Information collection item | Estimated time for response (minutes) | Estimated annual responses | Estimated annual burden hours | Rate (S/hr)
|  | (a) | (b) | (a) x (b) = (c) |
1 | Customer Surveys | 5 | 40,000 | 3,333.33 | $204.33
2 | Questionnaires/Customer Comment Cards/Complaint Forms | 5 | 600 | 50.00 | $204.33
3 | Focus Groups/Interviews | 15 | 500 | 125.00 | $204.33
4 | Small Discussion Groups | 120 | 400 | 800.00 | $204.33
5 | Usability Tests (In-person observation (i.e., Website/Software) | 30 | 1,000 | 500.00 | $204.33
6 | ForeSee Surveys (USPTO.GOV) | 10 | 100,000 | 16,666.67 | $204.33
Total (Three-Year Period) |  |  | 143,000 (429,000) | 18,475 (55,425) |

Estimated Total Annual (Non-hour) Respondent Cost Burden: $0. There are no capital start-up, maintenance, postage, recordkeeping costs, or any other fees associated with this information collection.

IV. Request for Comments

Comments are invited on:

(a) Whether the proposed collection of information is necessary for the proper performance of the functions of the agency, including whether the information shall have practical utility;

(b) the accuracy of the agency's estimate of the burden (including hours and cost) of the proposed collection of information;

(c) ways to enhance the quality, utility, and clarity of the information to be collected; and

(d) ways to minimize the burden of the collection of information on respondents, e.g., the use of automated collection techniques or other forms of information technology. Comments submitted in response to this notice will be summarized or included in the request for OMB approval of this information collection; they also will become a matter of public record.

Marcie Lovett,
Records Management Division Director, USPTO, Office of the Chief Information Officer.

[FR Doc. 2018-10768 Filed 5-18-18; 8:45 am]

BILLING CODE 3510-16-P